DEPARTMENT OF ENERGY

Federal Energy Regulatory Commission

[Docket No. RP00-262-001]

Florida Gas Transmission Company; Notice of Proposed Compliance Filing

June 21, 2000.

Take notice that on June 15, 2000, Florida Gas Transmission Company (FGT) tendered for filing to become part of its FERC Gas Tariff, Third Revised Volume No. 1, the following tariff sheets, effective March 26, 2000:

Substitute Fourth Revised Sheet No. 164

Substitute Fourth Revised Sheet No. 165

Third Revised Sheet No. 165A

Fourth Revised Sheet No. 166

Substitute Second Revised Sheet No. 168A

Substitute First Revised Sheet No. 185

FGT states that on May 1, 2000, FGT filed in Docket No. RP00-262-000 (May 1, Filing) to implement provisions of Order No. 637 regarding the waiver of the rate ceiling for short-term capacity release transactions and the prospective limitations on the availability of the Right-of-Refusal (ROFR). Subsequently, on May 31, 2000, the Commission issued an order in the referenced docket accepting FGT's May 1 Filing subject to conditions and required FGT to file tariff revisions within 15 days to 1) include the September 30, 2002 expiration date for the waiver of the rate ceiling for short-term capacity release transactions, 2) clarify the bidding requirements related to certain releases, 3) provide for the grandfathering of existing discounted long-term contracts with respect to the application of the ROFR, and 4) state that electronic information will be provided on FGT's internet website. In the instant filing FGT is proposing tariff revisions to comply with the Commission's May 31 order.

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-16129 Filed 6-26-00; 8:45 am]

BILLING CODE 6717-01-M